NATIONAL SCIENCE FOUNDATION

Advisory Committee for Mathematical and Physical Sciences; Notice of Meeting

In accordance with Federal Advisory Committee Act (Pub. L. 92-463, as amended), the National Science Foundation announces the following meeting:

Name: Directorate for Mathematical and Physical Sciences Advisory Committee (MPSAC), #66.

Date/Time: November 2, 2005 12 Noon-6 p.m.; November 3, 2005 8 a.m.-6 p.m.; November 4, 2005 8 a.m.-3 p.m.

Place: National Science Foundation, 4201 Wilson Boulevard, Arlington, VA 22230, Room 1235.

Type of Meeting: Open.

Contact Person: Dr. Morris L. Aizenman, Senior Science Associate, Directorate for Mathematical and Physical Sciences, Room 1005. National Science Foundation, 4201 Wilson Boulevard, Arlington, VA 22230. (703) 292-8807.

Purpose of Meeting: To provide advice and recommendations concerning NSF science and education activities within the Directorate for Mathematical and Physical Sciences.

Agenda: Briefing to new members about NSF and Directorate, Update on current status of Directorate, Meeting with Education and Human Resources Advisory Committee, Update on High Magnetic Field Subcommittee, Meeting of MPSAC with Divisions within MPS Directorate, Report on NSF/MPS CyberScience Activities, Discussion of MPS Long-term Planning Activities.

Summary Minutes: May be obtained from the contact person listed above.

Dated: October 4, 2005.
Susanne E. Bolton,
Committee Management Officer.

[FR Doc. 05-20273 Filed 10-6-05; 8:45 am]

BILLING CODE 7555-01-M